NATIONAL AERONAUTICS AND SPACE ADMINISTRATION

[Notice (04-004)]

Notice of Prospective Patent License

AGENCY: National Aeronautics and Space Administration.

ACTION: Notice of prospective patent license.

SUMMARY: NASA hereby gives notice that Bigelow Development Aerospace Division, LLC, having offices in Las Vegas, Nevada, has applied for an exclusive license to practice the inventions described and claimed in Patent No. 5,610,363 entitled “Enhanced Whipple Shield”; Patent No. 6,647,855 entitled “Method for Deploying a Hypervelocity Shield”; pending U.S. patent application entitled “Flexible Multi-Shock Shielding,” Case No. MSC-23314-1; and pending U.S. patent application entitled “Shielding Apparatus and Method of Use,” Case No. MSC-22330-1. Each of the above-listed patents and patent applications are assigned to the United States of America as represented by the Administrator of the National Aeronautics and Space Administration. Written objections to the prospective grant of a license should be sent to the Johnson Space Center. NASA has not yet made a determination to grant the requested license and may deny the requested license even if no objections are submitted within the comment period.

DATE(S): Responses to this notice must be received by January 30, 2004.

FOR FURTHER INFORMATION CONTACT: James Cate, Patent Attorney, NASA Johnson Space Center, Mail Stop HA, Houston, TX 77058-8452; telephone (281) 483-1001.

Dated: January 8, 2004.
Robert M. Stephens,
Deputy General Counsel.

[FR Doc. 04-840 Filed 1-14-04; 8:45 am]

BILLING CODE 7510-01-P